DEPARTMENT OF AGRICULTURE

Agricultural Marketing Service

7 CFR Part 993

[Docket No. FV04-993-1 PR]

Dried Prunes Produced in California; Withdrawal of a Proposed Rule

AGENCY: Agricultural Marketing Service, USDA.

ACTION: Withdrawal of proposed rule.

SUMMARY: This action withdraws a proposed rule published in the Federal Register on March 26, 2004 (69 FR 15736), on the establishment of an undersized prune regulation for the 2004-05 crop year under the Federal marketing order for dried prunes (order). The order regulates the handling of dried prunes produced in California and is administered locally by the Prune Marketing Committee (Committee). On June 4, 2004, the California Agriculture Statistics Service (CASS) announced its forecast for the 2004 prune harvest at 70,000 natural condition tons, 60 percent below the average production for the past five years. Based on a 70,000 ton crop, there would be insufficient dried prunes to justify a 2004-05 undersized volume regulation. Therefore, the proposed rule is being withdrawn.

EFFECTIVE DATE: July 8, 2004.

FOR FURTHER INFORMATION CONTACT: Richard P. Van Diest, Marketing Specialist, California Marketing Field Office, Marketing Order Administration Branch, Fruit and Vegetable Programs, AMS, USDA, 2202 Monterey Street, suite 102B, Fresno, California 93721; telephone: (559) 487-5901, fax: (559) 487-5906; or George Kelhart, Technical Advisor, Marketing Order Administration Branch, Fruit and Vegetable Programs, AMS, USDA, 1400 Independence Avenue, SW., STOP 0237, Washington, DC 20250-0237; telephone: (202) 720-2491, fax: (202) 720-8938.

Small businesses may request information on complying with this regulation by contacting Jay Guerber, Marketing Order Administration Branch, Fruit and Vegetable Programs, AMS, USDA, 1400 Independence Avenue, SW., STOP 0237, Washington, DC 20250-0237; telephone: (202) 720-2491, fax: (202) 720-8938, or e-mail: Jay.Guerber@usda.gov.

SUPPLEMENTARY INFORMATION: Marketing Agreement and Order No. 993, both as amended (7 CFR part 993), regulate the handling of dried prunes produced in California, hereinafter referred to as the “order.” The marketing agreement and order are effective under the Agricultural Marketing Agreement Act of 1937, as amended (7 U.S.C. 601-674), hereinafter referred to as the “Act.”

This action withdraws a proposed rule published in the Federal Register on March 26, 2004 (69 FR 15736), on the establishment of an undersized prune regulation for the 2004-05 crop year for volume control purposes. The proposed rule would have required prunes passing through specified screen openings to be removed from human consumption outlets. For French prunes, the screen opening would have been increased from 23/32 to 24/32 of an inch in diameter; and for non-French prunes, the opening would have been increased from 28/32 to 30/32 of an inch in diameter. The primary intent behind this proposal was to remove the smallest, least desirable of the marketable size dried prunes to help balance the supply of dried prunes with demand. The proposed undersized regulation would have been in effect from August 1, 2004, through July 31, 2005.

Based on the CASS forecast of 70,000 natural condition tons for the 2004 prune harvest, there will be an insufficient supply of California dried prunes to meet the 2004-05 market demand (estimated at 150,000 natural condition tons). Implementation of the proposed undersized regulation would further reduce the supply of prunes entering human consumption outlets during the 2004-05 crop year and would not promote orderly marketing conditions or further marketing order marketing goals. Therefore, the proposed rule is being withdrawn.

The proposed rule regarding the establishment of an undersized regulation for dried prunes for the 2004-05 crop year, published in the Federal Register on March 26, 2004 (69 FR 15736), is hereby withdrawn.

List of Subjects in 7 CFR Part 993

Marketing Agreements, Plums, Prunes, Reporting and recordkeeping requirements.

Authority: 7 U.S.C. 601-674.

Dated: June 30, 2004.
A.J. Yates,
Administrator, Agricultural Marketing Service.

[FR Doc. 04-15283 Filed 7-6-04; 8:45 am]

BILLING CODE 3410-02-P